DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (“the Program”), as required by Section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place, NW., Washington, DC 20005, (202) 357-6400. For information on HRSA's role in the Program, contact the Director, National Vaccine Injury Compensation Program, 5600 Fishers Lane, Room 11C-26, Rockville, MD 20857; (301) 443-6593.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated his responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at Section 2114 of the PHS Act or as set forth at 42 CFR 100.3, as applicable. This Table lists for each covered childhood vaccine the conditions which may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that the Secretary publish in the Federal Register a notice of each petition filed. Set forth below is a list of petitions received by HRSA on July 1, 2006, through September 30, 2006.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

(a) “Sustained, or had significantly aggravated, any illness, disability, injury, or condition not set forth in the Table but which was caused by” one of the vaccines referred to in the Table, or

(b) “Sustained, or had significantly aggravated, any illness, disability, injury, or condition set forth in the Vaccine Injury Table the first symptom or manifestation of the onset or significant aggravation of which did not occur within the time period set forth in the Table but which was caused by a vaccine” referred to in the Table.

This notice will also serve as the special master's invitation to all interested persons to submit written information relevant to the issues described above in the case of the petitions listed below. Any person choosing to do so should file an original and three (3) copies of the information with the Clerk of the U.S. Court of Federal Claims at the address listed above (under the heading For Further Information Contact), with a copy to HRSA addressed to Director, Division of Vaccine Injury Compensation Program, Healthcare Systems Bureau, 5600 Fishers Lane, Room 11C-26, Rockville, MD 20857. The Court's caption (Petitioner's Name v. Secretary of Health and Human Services) and the docket number assigned to the petition should be used as the caption for the written submission. Chapter 35 of title 44, United States Code, related to paperwork reduction, does not apply to information required for purposes of carrying out the Program.

List of Petitions

1. Christine Delrio on behalf of Lucas Delrio, Glenwood Springs, Colorado, Court of Federal Claims Number 06-0499V

2. Debbra Polley, Moline, Illinois, Court of Federal Claims Number 06-0500V

3. Angelo and Giusseppina Bongiorno on behalf of Anthony Bongiorno, Lake Success, New York, Court of Federal Claims Number 06-0501V

4. Karen and John Kellogg on behalf of Brady Kellogg, Boston, Massachusetts, Court of Federal Claims Number 06-0511V

5. George N. Lyne on behalf of George B. Lyne, Jr., Deceased, Lindenwold, New Jersey, Court of Federal Claims Number 06-0512V

6. Helene and Ralph Haro on behalf of Bailey Nicole Haro, Deceased, Miami, Florida, Court of Federal Claims Number 06-0513V

7. Evelyn Willetts and Eugene Stenger on behalf of Ethan Stenger, Philadelphia, Pennsylvania, Court of Federal Claims Number 06-0516V

8. Brian Wasser on behalf of Samuel Wasser, Hyannis, Massachusetts, Court of Federal Claims Number 06-0520V

9. Ray Baldonado, Whittier, California, Court of Federal Claims Number 06-0521V

10. Robert Veryzer, Clifton Park, New York, Court of Federal Claims Number 06-0522V

11. Elizabeth Hatcher on behalf of Michael Farr Hatcher, Cumming, Georgia, Court of Federal Claims Number 06-0526V

12. Frank J. Capone, Green Valley, Arizona, Court of Federal Claims Number 06-0529V

13. Rose Turner on behalf of Madylyn Gardner, Santa Rosa, California, Court of Federal Claims Number 06-0542V

14. Alena Barysiuk and Sachin Sharma on behalf of Lavani Sharma, Castro Valley, California, Court of Federal Claims Number 06-0547V

15. Karolina Leszczynski on behalf of Natalie Leszczynski, New York, New York, Court of Federal Claims Number 06-0551V

16. Karolina Leszczynski on behalf of Amanda Leszczynski, New York, New York, Court of Federal Claims Number 06-0552V

17. Melissa and Matthew Niermann on behalf of Victor Niermann, Lake Success, New York, Court of Federal Claims Number 06-0557V

18. Deborah and Jack Breard on behalf of Jack Breard, IV, Lake Success, New York, Court of Federal Claims Number 06-0558V

19. Jennifer Ann and Gabriel Gene Rodriguez on behalf of Giavanna Maria Rodriguez, Deceased, Voorheesville, New York, Court of Federal Claims Number 06-0559V

20. David Kouri, Boston, Massachusetts, Court of Federal Claims Number 06-0560V

21. Jennifer and Patrick Keefe on behalf of Kevin Lucas Keefe, Lake Success, New York Court of Federal Claims Number 06-0565V

22. Deborah Friedlander, New York, New York, Court of Federal Claims Number 06-0573V

23. Michelle Kristine Staley, Kansas City, Missouri, Court of Federal Claims Number 06-0574V

24. Cindy Dudley, Levittown, Pennsylvania, Court of Federal Claims Number 06-0579V

25. Cindy Needham and John Ordille on behalf of Thomas Ordille, Somers Point, New Jersey, Court of Federal Claims Number 06-0581V

26. Marcia Guy on behalf of Myia Howard, Lemont, Illinois, Court of Federal Claims Number 06-0586V

27. Lisa Meunier on behalf of Hannah Meunier, Boston, Massachusetts, Court of Federal Claims Number 06-0588V

28. Suzette and David Frear on behalf of Connor David Frear, Newport Beach, California, Court of Federal Claims Number 06-0590V

29. Laurel Stiebler, White Bear Lake, Minnesota, Court of Federal Claims Number 06-0591V

30. Paris and Allen Golec on behalf of Abigaile Golec, Springdale, Arkansas, Court of Federal Claims Number 06-0595V

31. Tiffany Bragdon on behalf of Kayla Bragdon, Peoria, Illinois, Court of Federal Claims Number 06-0597V

32. Elihu Sigal, Rancho Mirage, California, Court of Federal Claims Number 06-0600V

33. Margaret and Stephen Ricca on behalf of Michael Richard Ricca, Wall, New Jersey, Court of Federal Claims Number 06-0608V

34. Veronica Ramirez on behalf of Jeremiah Ramirez, Dallas, Texas, Court of Federal Claims Number 06-0610V

35. Kevin Dunn, New Hyde Park, New York, Court of Federal Claims Number 06-0611V

36. Christopher Seefeldt on behalf of Maxim Seefeldt, Buffalo, New York, Court of Federal Claims Number 06-0618V

37. Debbie Squire on behalf of Tyrese Campbell, Philadelphia, Pennsylvania, Court of Federal Claims Number 06-0619V

38. Belisario Bolanos, San Bernadino, California, Court of Federal Claims Number 06-0621V

39. Janice Ferro, New York, New York, Court of Federal Claims Number 06-0625V

40. Jimmie Lee Lazenberry on behalf of Betty Lazenberry, Jacksonville, Florida, Court of Federal Claims Number 06-0630V

41. Jimmie Lee Lazenberry on behalf of Henry Lazenberry, Jacksonville, Florida, Court of Federal Claims Number 06-0631V

42. Jimmie Lee Lazenberry on behalf of Ricky Lazenberry, Jacksonville, Florida, Court of Federal Claims Number 06-0632V

43. Maria Lynch on behalf of Anna Lynch, Vienna, Virginia , Court of Federal Claims Number 06-0634V

44. Clair Swaiss, Boston, Massachusetts, Court of Federal Claims Number 06-0638V

45. Osama Elgebaly on behalf of Yusra Elgebaly, Boston, Massachusetts, Court of Federal Claims Number 06-0639V

46. Julissa and Emiliano Aguero on behalf of Emiliano G. Aguero, Fort Lee, New Jersey, Court of Federal Claims Number 06-0642V

47. Stephanie and Clifton Miller on behalf of Kharisa Miller, Boston, Massachusetts, Court of Federal Claims Number 06-0643V

48. Nicole Morris on behalf of Grace Morris, Deceased, Morris, Illinois, Court of Federal Claims Number 06-0644V

49. Nella and James Coe on behalf of Isabella Coe, Portland, Oregon, Court of Federal Claims Number 06-0645V

50. Mirielle Chapa on behalf of Oscar Chapa, Somers Point, New Jersey, Court of Federal Claims Number 06-0647V

51. Tiffani Peacock on behalf of Morgan Peacock, Apple Valley, California, Court of Federal Claims Number 06-0649V

52. Mitch Anderson, Quincy, Massachusetts, Court of Federal Claims Number 06-0650V

53. Christine Saddler on behalf of Daniel Saddler, Eagle River, Alaska, Court of Federal Claims Number 06-0657V

54. Rebecca and Gregory Schwartz on behalf of Nathan Schwartz, Birmingham, Alabama, Court of Federal Claims Number 06-0662V

55. Bridgette Bigbee and Royce Carter on behalf of Kaleaf Carter, Deceased, Richmond, California, Court of Federal Claims Number 06-0663V

56. Douglas Henning, Jacksonville, Florida, Court of Federal Claims Number 06-0665V

57. Jennifer Stammer, Edmond, Oklahoma, Court of Federal Claims Number 06-0667V

58. Cristal DeBlasis, Philadelphia, Pennsylvania, Court of Federal Claims Number 06-0669V

59. Antoinette Chin, Harrington Park, New Jersey, Court of Federal Claims Number 06-0670V

60. Melissa and Paul Follett on behalf of Aidan Drakose Exavier Follett, Deceased, Greenville, Michigan, Court of Federal Claims Number 06-0671V

61. Christine Bitenieks on behalf of Donovan Bitenieks, Lincoln, Nebraska, Court of Federal Claims Number 06-0673V

62. Ana and Hugo Solano on behalf of Allen Solano, Elizabeth, New Jersey, Court of Federal Claims Number 06-0674V

63. Tracy Perl on behalf of Andrew Perl, Vienna, Virginia, Court of Federal Claims Number 06-0678V

64. Tracy and Brent Dallman on behalf of Luke Dallman, Indianapolis, Indiana, Court of Federal Claims Number 06-0679V

Dated: December 22, 2006.
Elizabeth M. Duke,
Administrator.

[FR Doc. E6-22507 Filed 1-3-07; 8:45 am]

BILLING CODE 4165-15-P